NATIONAL ARCHIVES AND RECORDS ADMINISTRATION

Advisory Committee on Presidential Library-Foundation Partnerships

AGENCY: National Archives and Records Administration.

ACTION: Notice of meeting.

SUMMARY: In accordance with the Federal Advisory Committee Act, as amended (5 U.S.C. appendix 2), the National Archives and Records Administration (NARA) announces a meeting of the Advisory Committee on Presidential Library-Foundation Partnerships. The meeting will be held to discuss the reorganization of the National Archives as they relate to Presidential Libraries, Social Media Initiatives, Processing of Presidential materials, and the Advancement of Library-Foundation Partnerships.

DATES: The meeting will be held on June 9, 2011 from 9 a.m. to 12 noon.

ADDRESSES: Hay-Adams Hotel Ballroom at 800 16th Street, NW., Washington, DC 20006.

FOR FURTHER INFORMATION CONTACT: Sharon Fawcett, Assistant Archivist for Presidential Libraries, at the National Archives and Records Administration, 8601 Adelphi Road, College Park, Maryland 20740, telephone number (301) 837-3250. Contact the Presidential Libraries staff at Kathleen.mead@nara.gov.

SUPPLEMENTARY INFORMATION: The meeting will be open to the public. Valet parking is available at the hotel and there are commercial parking lots and metered curb parking nearby. The Hay-Adams is convenient to the McPherson Square and Farragut West Metro stations.

Dated: May 3, 2011.
Mary Ann Hadyka,
Committee Management Officer.

[FR Doc. 2011-11207 Filed 5-5-11; 8:45 am]

BILLING CODE 7515-01-P